LEGAL SERVICES CORPORATION

Sunshine Act Meetings

TIME AND DATE: The Legal Services Corporation (LSC) Board of Directors and its committees will meet January 22-24, 2023. On Sunday, January 22, the first meeting will begin at 1:30 p.m. MST, with the next meeting commencing promptly upon adjournment of the immediately preceding meeting. On Monday, January 23, the first meeting will again begin at 8:30 a.m. MST, with the next meeting commencing promptly upon adjournment of the immediately preceding meeting. On Tuesday, January 24, the first meeting will begin at 8:00 a.m. MST, with the next meeting commencing promptly upon adjournment of the immediately preceding meeting.

PLACE: Public Notice of Hybrid Meeting.

LSC will conduct its January 22-24, 2023 meetings at the Sheraton Phoenix Downtown Hotel, 340 North 3rd Street, Phoenix, AZ 85004, and virtually via Zoom.

Public Observation: Unless otherwise noted herein, the Board and all committee meetings will be open to public observation. Members of the public who wish to participate virtually in the public proceedings may do so by following the directions provided below.

Directions for Open Sessions

Sunday, January 22, 2023

• To join the Zoom meeting by computer, please use this link.

○ https://lsc-gov.zoom.us/j/88994750560?pwd=aGhaK3hLN2R4TFRSZExJNTlUZHN2UT09.

○ Meeting ID: 889 9475 0560.

○ Passcode: 012223.

Monday, January 23, 2023

• To join the Zoom meeting by computer, please use this link.

○ https://lsc-gov.zoom.us/j/88651677172?pwd=am92YVZINUlUSlVaUnBkcjFSbWltUT09.

○ Meeting ID: 886 5167 7172.

○ Passcode: 012323.

Tuesday, January 24, 2023

• To join the Zoom meeting by computer, please use this link.

○ https://lsc-gov.zoom.us/j/82342982872?pwd=eGxicWR2bDVURHhNZmdqMTl0blV5dz09.

○ Meeting ID: 823 4298 2872.

○ Passcode: 012423.

○ If calling from outside the U.S., find your local number here: https://lsc-gov.zoom.us/u/acCVpRj1FD.

Once connected to Zoom, please immediately mute your computer or telephone. Members of the public are asked to keep their computers or telephones muted to eliminate background noise. To avoid disrupting the meetings, please refrain from placing the call on hold if doing so will trigger recorded music or other sound.

From time to time, the Board or Committee Chair may solicit comments from the public. To participate in the meeting during public comment, use the `raise your hand' or `chat' functions in Zoom and wait to be recognized by the Chair before stating your questions and/or comments.

STATUS: Open, except as noted below.

Audit Committee—Open, except that, upon a vote of the Board of Directors, the meeting may be closed to the public to meeting to discuss follow-up work by the Office of Compliance and Enforcement relating to open Office of Inspector General investigations.

Finance Committee—Open, except that, upon a vote of the Board of Directors, the meeting may be closed to the public to discuss LSC's banking services and investment policy.

Office Space Committee—the meeting is closed to public observation.

Board of Directors—Open, except that, upon a vote of the Board of Directors, a portion of the meeting may be closed to the public to discuss a report and recommendations from the Office Space Committee and will consider and act on the General Counsel's report on potential and pending litigation involving LSC as well as a list of prospective Leaders Council and Emerging Leaders Council members.

Any portion of the closed session consisting solely of briefings does not fall within the Sunshine Act's definition of the term “meeting” and, therefore, the requirements of the Sunshine Act do not apply to such portion of the closed session.¹

¹ 5 U.S.C. 552b (a)(2) and (b). See also 45 CFR 1622.2 & 1622.3.

A verbatim written transcript will be made of the closed sessions of the Audit, Finance, and Office Space Committee and Board meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Sunday, January 22, 2023

Start Time (All MST)

1. Audit Committee Meeting 1:30 p.m. MST

a. Matters to be discussed include the Committee's 2022 self-evaluation and goals for 2023; reports from the Office of Compliance and Enforcement and Office of Inspector General; and a Management report on risk management.

2. Finance Committee Meeting

a. Matters to be discussed include the Committee's 2022 self-evaluation and goals for 2023; LSC's appropriations for fiscal year 2023, financial report for the first two months of the fiscal year, and a resolution approving a consolidated operating budget for fiscal year; and LSC's appropriations request for fiscal year 2024;

Monday, January 23, 2023 Start Time (All MST)

1. [Tentative] Closed Office Space Committee Meeting

8:30 a.m. MST

a. Matters to be discussed include a recommendation for future LSC office space.

2. Meeting of Communications Subcommittee of the Institutional Advancement Committee

a. Matters to be discussed include the Committee's 2022 self-evaluation and goals for 2023 and an update on LSC's social media and communications activities.

3. Governance and Performance Review Committee Meeting

a. Matters to be discussed include the Committee's 2022 self-evaluation and goals for 2023; the activities of the Legal Aid Interagency Roundtable; annual Board and Committee evaluations; the LSC President's Evaluation; and the activities of the Office of Inspector General.

4. Delivery of Legal Services Committee Meeting

a. Matters to be discussed include the Committee's 2022 self-evaluation and goals for 2023 and an update on the revisions to LSC's Performance Criteria.

5. Open Board Meeting

a. Matters to be discussed include nominations for Chair and Vice Chair of the Board; reports of the Chair, Board members, President, and Inspector General; and reports of standing Board Committees.

Tuesday, January 24, 2023 Start Time (All MST)

1. Open Board Meeting (Cont'd.) 8:00 a.m. MST

2. Closed Board Meeting

Please refer to the LSC website (https://www.lsc.gov/events/board-directors-quarterly-meeting-january-22-24-2023-phoenix-az) for the final schedule and meeting agendas in electronic format. These materials will be made available at least 24 hours in advance of the meeting start time.

CONTACT PERSON FOR MORE INFORMATION: Jessica Wechter, Special Assistant to the President, at (202) 295-1626. Questions may also be sent by electronic mail to wechterj@lsc.gov.

Non-Confidential Meeting Materials: Non-confidential meeting materials will be made available in electronic format at least 24 hours in advance of the meeting on the LSC website, at https://www.lsc.gov/about-lsc/board-meeting-materials.

Dated: January 17, 2023.
Jessica Wechter,
Special Assistant to the President, Legal Services Corporation.

[FR Doc. 2023-01132 Filed 1-18-23; 11:15 am]

BILLING CODE 7050-01-P